DEPARTMENT OF ENERGY

Federal Energy Regulatory Commission

[Project No. 12615-001]

Alaska Power & Telephone Company; Notice of Request to Use Alternative Procedures In Preparing a License Application

March 26, 2008.

Take notice that the following request to use alternative procedures to prepare a license application has been filed with the Commission.

a. Type of Application: Request to use alternative procedures to prepare an original license application.

b. Project No.: 12615-001.

c. Date filed: March 10, 2008.

d. Applicant: Alaska Power & Telephone Company.

e. Name of Project: Soule River Hydroelectric Project.

f. Location: On the Soule River, tributary to Portland Canal, approximately 9 miles south of the community of Hyder, Alaska. The project would occupy approximately 1,112 acres of federal lands within the Tongass National Forest, administered by the U.S. Forest Service.

g. Filed Pursuant to: Federal Power Act, 16 U.S.C. 791(a)-825(r).

h. Applicant Contact: Glen Martin, Project Manager, Alaska Power & Telephone Company, 193 Otto Street, P.O. Box 3222, Port Townsend, Washington 98368, (360) 385-1733 X 122, glen.m@aptalaska.com.

i. FERC Contact: Matt Cutlip, phone at (503) 552-2762; e-mail at matt.cutlip@ferc.gov.

j. Deadline for Comments: 30 days from the date of this notice.

All documents (original and eight copies) should be filed with: Kimberly D. Bose, Secretary, Federal Energy Regulatory Commission, 888 First Street, NE., Washington, DC 20426.

Comments may be filed electronically via the Internet in lieu of paper. The Commission strongly encourages electronic filings. See 18 CFR 385.2001(a)(1)(iii) and the instructions on the Commission's Web site (http://www.ferc.gov) under the “e-Filing” link.

k. The project would consist of a 160-foot-high concrete-faced, rock-fill dam; an impoundment with a 950-acre surface area at a full pool elevation of 550 feet mean sea level; a 2.5-mile-long, 14-foot-wide access road with a 100-foot-long bridge across the Soule River; marine access facilities along the Portland Canal at the mouth of the Soule River; an 18-foot-diameter 11,100-foot-long power tunnel; a 50-foot by 120-foot powerhouse containing two Francis-type generating units, having a total installed capacity of 75,000 kilowatts; a 9.72-mile-long, 138 kilovolt submarine cable that would interconnect in Stewart, British Columbia with British Columbia Transmission Corporation's existing electrical transmission system;¹ and appurtenant facilities.

¹ Only the portion of the transmission line that would be located in the United States is under the Commission's jurisdiction.

l. A copy of the request to use alternative procedures is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

m. Alaska Power & Telephone Company has demonstrated that it has made an effort to contact all federal and state resources agencies, non-governmental organizations (NGO), and others affected by the project. Alaska Power & Telephone Company has also demonstrated that a consensus exists that the use of alternative procedures is appropriate in this case. Alaska Power & Telephone Company has submitted a communications protocol that is supported by the stakeholders.

The purpose of this notice is to invite any additional comments on Alaska Power & Telephone Company's request to use the alternative procedures, pursuant to section 4.34(i) of the Commission's regulations. Additional notices seeking comments on the specific project proposal, interventions and protests, and recommended terms and conditions will be issued at a later date. Alaska Power & Telephone Company will complete and file a preliminary Environmental Assessment, in lieu of Exhibit E of the license application. This differs from the traditional process, in which an applicant consults with agencies, Indian tribes, NGOs, and other parties during preparation of the license application and before filing the application, but the Commission staff performs the environmental review after the application is filed. The alternative procedures are intended to simplify and expedite the licensing process by combining the pre-filing consultation and environmental review processes into a single process, to facilitate greater participation, and to improve communication and cooperation among the participants.

Alaska Power & Telephone Company has met with federal and state resources agencies regarding the proposed Soule River Hydroelectric Project. Alaska Power & Telephone Company intends to file 6-month progress reports during the alternative procedures process that leads to the filing of a license application by June 30, 2009.

Kimberly D. Bose,
Secretary.

[FR Doc. E8-6723 Filed 4-1-08; 8:45 am]

BILLING CODE 6717-01-P